DEPARTMENT OF COMMERCE

National Oceanic and Atmospheric Administration

RIN 0648-XA422

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's (Council) Squid, Mackerel, Butterfish Monitoring Committee will hold a public meeting.

DATES: The meeting will be held on May 27, 2011 from 9 a.m. until 12 p.m.

ADDRESSES: The meeting will be held via webinar with a listening station also available at the Council address below. Webinar registration: https://www1.gotomeeting.com/register/406935464.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The primary purpose of the meeting is to develop recommendations for the Council regarding the management of Atlantic mackerel, butterfish, Loligo and Illex Squids for 2012, including annual catch limits, annual catch targets, and accountability measures.

Special Accommodations

The meeting is physically accessible to people with disabilities. Requests for sign language interpretation or other auxiliary aids should be directed to M. Jan Saunders at the Mid-Atlantic Council Office, (302) 526-5251, at least 5 days prior to the meeting date.

Dated: May 5, 2011.
Tracey L. Thompson,
Acting Director, Office of Sustainable Fisheries, National Marine Fisheries Service.

[FR Doc. 2011-11324 Filed 5-9-11; 8:45 am]

BILLING CODE 3510-22-P